DEPARTMENT OF TRANSPORTATION

Federal Aviation Administration

Public Notice for Waiver of Aeronautical Land-Use Assurance

AGENCY: Federal Aviation Administration (FAA), DOT.

ACTION: Notice of intent of waiver with respect to land; Bismarck Municipal Airport, Bismarck, North Dakota.

SUMMARY: The FAA is considering a proposal to change 33.3 acres of airport land from aeronautical use to non-aeronautical use and to authorize the lease of airport property located at Bismarck Municipal Airport, Bismarck, North Dakota. The aforementioned land is not needed for aeronautical use.

The property consists of five parcels in the “Bismarck Airport Addition” totaling 33.3 acres. Lot 1 Block 7, a 5.4 acre lot at 2200 University Drive, Bismarck, ND 58504. Lot 2 Block 7, a 17.4 acre lot at 1616 University Drive, Bismarck, ND 58504. Lot 3 Block 7, a 6.3 acre lot at 2101 South 12th Street, Bismarck, ND 58504. Lot 1 Block 8, a 3.0 acre lot at 1625 Airport Road, Bismarck, ND 58504. Lot 1 Block 10, a 1.2 acre lot at 1740 Airport Road, Bismarck, ND 58504. Four lots are flat grass areas maintained in accordance with the Airport Wildlife Management plan. Lot 1 Block 10 has a convenience store/gas station on the parcel. Bismarck Municipal Airport intends to enter into leases for Non-Aeronautical commercial development that are compatible with airport operations while retaining ownership and control of activities at those locations.

DATES: Comments must be received on or before August 7, 2017.

ADDRESSES: Documents are available for review by appointment at the FAA Dakota-Minnesota Airports District Office, Mark Holzer, Program Manager, 2301 University Dr., Bldg. 23B, Bismarck, ND 58504 Telephone: (701) 323-7380/Fax: (701) 323-7399 and Bismarck Municipal Airport, Timothy J. Thorsen, Assistant Airport Director, P.O. Box 991, Bismarck, ND 50502, (701) 355-1808.

Written comments on the Sponsor's request must be delivered or mailed to: Mark Holzer, Program Manager, Federal Aviation Administration, Dakota-Minnesota Airports District Office, 2301 University Dr., Bldg. 23B, Bismarck, ND 58504, Telephone Number: (701) 323-7380/FAX Number: (701) 323-7399.

FOR FURTHER INFORMATION CONTACT: Mark Holzer, Program Manager, Federal Aviation Administration, Dakota-Minnesota Airports District Office, 2301 University Dr., Bldg. 23B, Bismarck, ND 58504. Telephone Number: (701) 323-7380/FAX Number: (701) 323-7399.

SUPPLEMENTARY INFORMATION: In accordance with section 47107(h) of Title 49, United States Code, this notice is required to be published in the Federal Register 30 days before modifying the land-use assurance that requires the property to be used for an aeronautical purpose.

Four lots are flat grass areas maintained in accordance with the Airport Wildlife Management plan. Lot 1 Block 10 has a convenience store/gas station on the parcel. Land was acquired under the Airport Improvement Program. Projects include: F (9-32-035-C208) acquired in 1962, L (9-32-0003-02-1973) acquired in 1973, and C (9-32-035-705-1958) acquired in 1956. One portion of lot 1 Block 8 was acquired by Quit Claim Deed from the City of Bismarck May 10, 2017. Bismarck Municipal Airport intends to enter into leases, at fair market value, for Non-Aeronautical commercial development that are compatible with airport operations while retaining ownership and control of activities at those locations.

The disposition of proceeds from the lease of the airport property will be in accordance with FAA's Policy and Procedures Concerning the Use of Airport Revenue, published in the Federal Register on February 16, 1999 (64 FR 7696).

This notice announces that the FAA is considering the release of the subject airport property at the Bismarck Municipal Airport, Bismarck, North Dakota from its obligations to be maintained for aeronautical purposes. Approval does not constitute a commitment by the FAA to financially assist in the change in use of the subject airport property nor a determination of eligibility for grant-in-aid funding from the FAA.

Property's Legal Description

Lot 1 Block 7, Bismarck Airport Addition to the City of Bismarck.

Lot 2 Block 7, Bismarck Airport Addition to the City of Bismarck.

Lot 3 Block 7, Bismarck Airport Addition to the City of Bismarck.

Lot 1 Block 8, Bismarck Airport Addition to the City of Bismarck.

Lot 1 Block 10, Bismarck Airport Addition to the City of Bismarck.

Issued in Minneapolis, Minnesota on June 22, 2017.
Andy Peek,
Manager, Dakota-Minnesota Airports District Office FAA, Great Lakes Region.

[FR Doc. 2017-14218 Filed 7-5-17; 8:45 am]

BILLING CODE 4910-13-P